DEPARTMENT OF COMMERCE

Foreign-Trade Zones Board

[Docket 30-2011]

Foreign-Trade Zone 141—Rochester, NY; Application for Manufacturing Authority, Firth Rixson, Inc. d/b/a Firth Rixson Monroe (Aircraft Turbine Components), Rochester, NY

A request has been submitted to the Foreign-Trade Zones Board (the Board) by Monroe County, New York, grantee of FTZ 141, requesting manufacturing authority on behalf of Firth Rixson, Inc. d/b/a Firth Rixson Monroe (Firth Rixson), to manufacture aircraft turbine components under FTZ procedures within FTZ 141. The application was submitted pursuant to the provisions of the Foreign-Trade Zones Act, as amended (19 U.S.C. 81a-81u), and the regulations of the Board (15 CFR part 400). It was formally filed on April 29, 2011.

The Firth Rixson facility (100 employees) is located at 181 McKee Road in Rochester and is situated within FTZ 141's proposed service area of Monroe County (see Docket 29-2011). The facility is used to produce aircraft turbine engine components of forged titanium, aluminum, and nickel alloy (HTSUS 7508.90.50, 7616.99.50, 8108.90.30), including forged rings for aircraft turbine engines for the U.S. market and export. The manufacturing process under FTZ procedures would involve machining, heat-treating, and forging of foreign-origin titanium (HTSUS 8108.20.00, duty rate—15%), aluminum alloy (7601.20.90, duty free) and nickel alloy (7502.20.00, duty free) (representing about 25% of the finished rings' value) into medium- and large-size rings (HTSUS 8411.91.90, 8411.99.90). The facility can produce up to 3.3 million kilograms of finished rings annually.

FTZ procedures could exempt Firth Rixson from customs duty payments on foreign titanium used in export production. The company anticipates that some 54 percent of the plant's shipments will be exported. On its domestic sales, Firth Rixson would be able to choose the duty rate during customs entry procedures that applies to aircraft turbine engine components and forged rings of titanium (duty rates—free, 2.4%, 5.5%) for the foreign-origin titanium noted above. FTZ designation would further allow Firth Rixson to realize logistical benefits through the use of weekly customs entry procedures. Customs duties also could possibly be deferred or reduced on foreign status production equipment. Firth Rixson would also be exempt from duty payments on foreign inputs that become scrap during the production process. The application indicates that the savings from FTZ procedures would help improve the facility's international competitiveness.

In accordance with the Board's regulations, Pierre Duy of the FTZ Staff is designated examiner to evaluate and analyze the facts and information presented in the application and case record and to report findings and recommendations to the Board.

Public comment is invited from interested parties. Submissions (original and 3 copies) shall be addressed to the Board's Executive Secretary at the address below. The closing period for receipt of comments is July 5, 2011. Rebuttal comments in response to material submitted during the foregoing period may be submitted during the subsequent 15-day period to July 18, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Pierre Duy at Pierre.Duy@trade.gov or (202) 482-1378.

Dated: April 29, 2011.
Andrew McGilvray,
Executive Secretary.

[FR Doc. 2011-10885 Filed 5-3-11; 8:45 am]

BILLING CODE P